DEPARTMENT OF THE INTERIOR

National Park Service

National Register of Historic Places; Notification of Pending Nominations and Related Actions

Nominations for the following properties being considered for listing or related actions in the National Register were received by the National Park Service before January 19, 2008. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by February 19, 2008.

J. Paul Loether,
Chief, National Register of Historic Places/National Historic Landmarks Program.

CALIFORNIA

San Francisco County

Administration Building, Treasure Island, SE. corner of Ave. of the Palms & California Ave., Treasure Island, 08000081.

Hall of Transportation, Treasure Island, California Ave. between Aves. D & F, Treasure Island, 08000082.

Palace of Fine and Decorative Arts, Treasure Island, California Ave. & Ave B, Treasure Island, 08000083.

Quarters 10 and Building 267, Yerba Buena Island, Jct. Northgate & Macalla Rds., Yerba Buena Island, 08000084.

Senior Officers Quarters Historic District, Yerba Buena Island, N. of I80, Yerba Buena Island, 08000085.

Torpedo Storehouse—Torpedo (Mine) Assembly Building & Long Range Storage Building, N. of I80, Yerba Buena Island, 08000086.

IOWA

Appanoose County

Franklin Regular Baptist Church, 135th Ave. & 590th St., Seymour, 08000087.

LOUISIANA

Acadia Parish

Istre Cemetery Grave Houses, Swift Rd., Morse, 08000088.

MASSACHUSETTS

Suffolk County

Dorchester Park, Bounded by Dorchester Ave., Richmond, Adams & Richview Sts., Boston, 08000089.

Worcester County

Parkhill Mill, 1 Oak Hill Rd., Fitchburg, 08000090.

MISSOURI

Jackson County

Vitagraph Film Exchange Building, 1703 Wyandotte St., Kansas City, 08000091.

St. Louis Independent City

Forty—Eleven Delmar, 4005-4017 Delmar Blvd., St. Louis (Independent City), 08000092.

Weber Implement and Automobile Company, (Auto-Related Resources of St. Louis, Missouri MPS) 1900 Locust St.,

NEW YORK

Albany County

Calvary Methodist Episcopal Church, 715 Morris St., Albany, 08000094.

St. Agnes Cemetery, 48 Cemetery Ave., Menands, 08000095.

Cattaraugus County

Beardsley—Oliver House, 312 Laurel Ave., Olean, 08000097.

Cayuga County

Sherwood Equal Rights Historic District, (Freedom Trail, Abolitionism, and African American Life in Central New York MPS), Sherwood Rd. & NY 34B, Sherwood, 08000096.

Dutchess County

McComb, Peter and Karen, House, 27 Hornbeck Ridge, Poughkeepsie, 08000098.

Reformed Dutch Church of Poughkeepsie, 70 Hooker Ave., Poughkeepsie, 08000099.

Erie County

Concordia Cemetery, 438 Walden Ave., Buffalo, 08000106.

Trinity Episcopal Church, 371 Delaware Ave., Buffalo, 08000100.

Fulton County

Knox Mansion, 104 W. 2nd Ave., Johnstown, 08000101.

Ontario County

Farmers and Merchants Bank, 24-26 Linden St., Geneva, 08000102.

Orange County

Walden United Methodist Church, 125 W. Main St., Walden, 08000103.

Orleans County

Servoss House, 3963 Fruit Ave., Medina, 08000104.

Rockland County

North Main Street School, 185 N. Main St., Spring Valley, 08000105.

Seneca County

Graves, John, Cobblestone Farmhouse, (Cobblestone Architecture of New York State MPS), 1370 NY 318, Junius, 08000107.

St. Lawrence County

Village Park Historic District (Boundary Increase II), 7-1/2, 9 & 11 E. Main St., Canton, 08000108.

Suffolk County

Brewster House, Jct. of NY 25A & Runs Rd., East Setauket, 08000109.

Westchester County

Scarsdale Woman's Club, 37 Drake Rd., Scarsdale, 08000110.

NORTH CAROLINA

Forsyth County

Reynoldstown Historic District, Portions of 800 & 900 blks. of Camel, Cameron, Graham, Jackson & Rich Aves., E. 10th St.& Cameron Ave Bridge, Winston-Salem, 08000111.

OHIO

Clermont County

Pleasant Hill, 909 OH 131, Milford, 08000112.

Cuyahoga County

Cleveland Club, 10660 Carnegie Ave., Cleveland, 08000113.

Geauga County

Chardon Post Office Building, 121 South St., Chardon, 08000114.

Hamilton County

German Evangelical Protestant Cemetery Chapel, 3701 Vine St., Cincinnati, 08000115.

Parkside Apartments, 3315-3317 Jefferson Ave., Cincinnati, 08000116.

Lorain County

Grafton School, 1111 Elm St., Grafton, 08000117.

OREGON

Marion County

Oregon State Hospital Historic District, Roughly bounded by D St., Park Ave., 24th St. & Bates Dr., Salem, 08000118.

Multnomah County

Cohn—Sichel House, 2205 NW. Johnson St., Portland, 08000119.

WISCONSIN

Rock County

Evansville Standpipe, 288 N. 4th St., Evansville, 08000120.

Winnebago County

Beals, Edward D. & Vina Shattuck, House, 220 N. Park Ave., Neenah, 08000121.

[FR Doc. E8-2020 Filed 2-1-08; 8:45 am]

BILLING CODE 4310-70-P